DEPARTMENT OF THE TREASURY

Office of Thrift Supervision

[AC-05; OTS Nos. H-4004 and 05190]

Provident Bank, Montebello, NY, and Provident Bancorp, Inc., Montebello, NY; Approval of Conversion Application

Notice is hereby given that on November 14, 2003, the Director, Supervision Policy, Office of Thrift Supervision (“OTS”), or her designee, pursuant to delegated authority, approved the application of Provident Bancorp, MHC and Provident Bank, both of Montebello, New York, to convert the stock form of organization. Copies of the application are available for inspection by appointment (phone number: 202-906-5922 or e-mail: Public.Info@OTS.Treas.gov) at the Public Reading Room, OTS, 1700 G Street, NW., Washington, DC 20552, and the OTS Northeast Regional Office, 10 Exchange Place, 18th Floor, Jersey City, New Jersey 07302.

Dated: November 18, 2003.
By the Office of Thrift Supervision.
Nadine Y. Washington,
Corporate Secretary.

[FR Doc. 03-29192 Filed 11-21-03; 8:45 am]

BILLING CODE 6720-01-M